FEDERAL RESERVE SYSTEM

Agency Information Collection Activities: Announcement of Board Approval Under Delegated Authority and Submission to OMB

SUMMARY: SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer --Michelle Shore--Division of Research and Statistics, Board of Governors of the Federal Reserve System, Washington, DC 20551 (202-452-3829)

OMB Desk Officer--Alexander T. Hunt--Office of Information and Regulatory Affairs, Office of Management and Budget, New Executive Office Building, Room 10235, Washington, DC 20503.

Final approval under OMB delegated authority of the extension for three years, without revision, of the following reports:

1. Report title: Recordkeeping and Disclosure Requirements Associated with Securities Transactions Pursuant to Regulation H

Agency form number: Reg H-3

OMB control number: 7100-0196

Frequency: On occasion

Reporters: State member banks and state member trust companies

Annual reporting hours: 102,359 hours

Estimated average hours per response: State member banks with trust departments and state member trust companies: recordkeeping, 2.00 hours; disclosure, 16.00 hours. State member banks without trust departments: recordkeeping; 15 minutes; disclosure, 5.00 hours.

Number of respondents: 232 state member banks with trust departments and state member trust companies, and 669 state member banks without trust departments

General description of report: This information collection is mandatory (12 U.S.C. 325). If the records maintained by state member banks come into the possession of the Federal Reserve, they are given confidential treatment (5 U.S.C. 552(b)(4), (b)(6), and (b)(8)).

Abstract: State member banks and state member trust companies are required to maintain records for three years following a securities transaction. These requirements¹ are necessary to protect the customer, to avoid or settle customer disputes, and to protect the institution against potential liability arising under the anti-fraud and insider trading provisions of the Securities Exchange Act of 1934.

¹ In July of 2004, the Securities and Exchange Commission (SEC) amended Rule 17j-1 of the Investment Company Act of 1940 to extend the reporting time period to 30 calendar days after the end of the calendar quarter. In order to promote practical and uniform recordkeeping requirements that are consistent with the SEC and other federal banking regulators' rules, the Federal Reserve is in the process of revising the 10 calendar day reporting requirement for state member banks and state member trust companies to a 30 calendar day reporting time period.

Current Action: On August 24, 2007, the Federal Reserve published a notice in the Federal Register (72 FR 48639) requesting public comment for 60 days on the Reg H-3 information collection. The comment period for this notice expired on October 23, 2007. No comments were received.

2. Report title: Home Mortgage Disclosure Act (HMDA) Loan/Application Register (LAR)

Agency form number: FR HMDA-LAR

OMB control number: 7100-0247

Frequency: Annual

Reporters: State member banks, subsidiaries of state member banks, subsidiaries of bank holding companies, U.S. branches and agencies of foreign banks (other than federal branches, federal agencies, and insured state branches of foreign banks), commercial lending companies owned or controlled by foreign banks, and organizations operating under section 25 or 25A of the Federal Reserve Act.

Annual reporting hours: 156,910 hours

Estimated average hours per response: State member banks, 242 hours; and mortgage subsidiaries, 192 hours.

Number of respondents: 527 State member banks, and 153 mortgage subsidiaries.

General description of report: This information collection is mandatory (12 U.S.C. 2803). The information is not given confidential treatment, however, information that might identify individual borrowers or applicants is given confidential treatment under exemption 6 of the Freedom of Information Act (5 U.S.C. 552(b)(6)) and section 304 (j)(2)(B) of HMDA (12 U.S.C. 2803).

Abstract: The information reported and disclosed pursuant to this collection is used to further the purposes of HMDA. These include: (1) To help determine whether financial institutions are serving the housing needs of their communities; (2) to assist public officials in distributing public-sector investments so as to attract private investment to areas where it is needed; and (3) to assist in identifying possible discriminatory lending patterns and enforcing anti-discrimination statutes.

Current Action: On August 24, 2007, the Federal Reserve published a notice in the Federal Register (72 FR 48639) requesting public comment for 60 days on the HMDA information collection. The comment period for this notice expired on October 23, 2007. No comments were received.

Board of Governors of the Federal Reserve System, October 26, 2007.
Jennifer J. Johnson
Secretary of the Board.

[FR Doc. E7-21385 Filed 10-30-07; 8:45 am]

BILLING CODE 6210-01-S